DEPARTMENT OF STATE

[Public Notice 4873]

Meeting of Advisory Committee on International Communications and Information Policy

The Department of State announces the next meeting of its Advisory Committee on International Communications and Information Policy (ACICIP) to be held on Thursday, December 16, 2004, from 10 a.m. to 12:30 p.m., in Room 1107 of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Richard E. Wiley of Wiley Rein & Fielding LLP. Ambassador David A. Gross, Deputy Assistant Secretary and U.S. Coordinator for International Communications and Information Policy, will also address the meeting. The main focus of the event will be to solicit members' and others' views on US-EU cooperation on telecommunications and information technology issues, especially in the context of the Transatlantic Economic Stakeholders Dialogue between the U.S. and the EU. State Department and EU officials will discuss recent bilateral meetings with European Commission, Dutch and UK officials on telecommunications and information technology issues. Reports from member-organized subcommittees will be presented. Other current issues concerning the ACICIP that may be discussed include the October World Telecommunication Standardization Assembly, the November meeting of the United Nations Information and Communication Technologies Task Force, preparations for Phase II of the World Summit on the Information Society, and internet governance.

Members of the public may attend these meetings up to the seating capacity of the room. While the meeting is open to the public, admittance to the Department of State building is only by means of a pre-arranged clearance list. In order to be placed on the pre-clearance list, please provide your name, title, company, social security number, date of birth, and citizenship to Robert M. Watts at wattsrm@state.gov no later than 5 p.m. on Tuesday, December 14, 2004. All attendees for this meeting must use the 23rd Street entrance. One of the following valid ID's will be required for admittance: any U.S. driver's license with photo, a passport, or a U.S. government agency ID. Non-U.S. government attendees must be escorted by Department of State personnel at all times when in the building.

For further information, please contact Robert M. Watts, Executive Secretary of the Committee, at 202-647-4736 or by e-mail at wattsrm@state.gov.

Dated: November 19, 2004.
Robert M. Watts,
Executive Secretary, ACICIP, Department of State.

[FR Doc. 04-26411 Filed 11-29-04; 8:45 am]

BILLING CODE 4710-07-P